DEPARTMENT OF COMMERCE

International Trade Administration

Notice of Correction to the Annual Listing of Foreign Government Subsidies on Articles of Cheese Subject to an In-Quota Rate of Duty

AGENCY: Import Administration, International Trade Administration, Department of Commerce.

SUMMARY: The Department of Commerce, in consultation with the Secretary of Agriculture, prepared its annual list of foreign government subsidies on articles of cheese subject to an in-quota rate of duty during the period October 1, 1999 through September 30, 2000. On December 26, 2000, the Department published in the Federal Register the Annual Listing of Foreign Government Subsidies on Articles of Cheese Subject to an In-Quota Rate of Duty at 65 FR 81488. The correct effective date is January 1, 2001, rather than January 2000.

EFFECTIVE DATE: January 1, 2001.

FOR FURTHER INFORMATION CONTACT: Tipten Troidl, Office of AD/CVD Enforcement VI, Group II, Import Administration, International Trade Administration, U.S. Department of Commerce, 14th Street and Constitution Ave., NW, Washington, DC 20230, telephone: (202) 482-2786.

This determination and notice are in accordance with section 702(a) of the Act. Effective January 20, 2001, Bernard T. Carreau is fulfilling the duties of the Assistant Secretary for Import Administration.

Dated: February 28, 2001.
Bernard T. Carreau,
Deputy Assistant Secretary, AD/CVD Enforcement II.

[FR Doc. 01-5625 Filed 3-7-01; 8:45 am]

BILLING CODE 3510-DS-P